DEPARTMENT OF ENERGY

Agency Information Collection Extension

AGENCY: Bonneville Power Administration, Department of Energy.

ACTION: Notice of request for comments.

SUMMARY: The Department of Energy (DOE), Bonneville Power Administration (BPA), invites public comment on a proposed collection of information that BPA is developing for submission to the Office of Management and Budget (OMB) pursuant to the Paperwork Reduction Act of 1995.

DATES: Comments regarding this proposed information collection must be received on or before August 15, 2023. If you anticipate any difficulty in submitting comments within that period, contact the person listed in the FOR FURTHER INFORMATION CONTACT section as soon as possible.

ADDRESSES: Written comments may be sent to Bonneville Power Administration, Attn: Stephanie Noell, Privacy Program, CGI-7, P.O. Box 3621, Portland, OR 97208-3621, or by email at privacy@bpa.gov.

FOR FURTHER INFORMATION CONTACT: Requests for additional information or copies of the information collection instrument and instructions should be directed to Attn: Stephanie Noell, Privacy Program, by email at privacy@bpa.gov, or by phone at (503) 230-3881.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5190;

(2) Information Collection Request Titled: Contracting;

(3) Type of Review: Extension;

(4) Purpose: This information collection is associated with BPA's management and oversight of contracting requirements in fulfillment of BPA vendor contracts;

(5) Annual Estimated Number of Respondents: 1,853;

(6) Annual Estimated Number of Total Responses: 13,115;

(7) Annual Estimated Number of Burden Hours: 2,740;

(8) Annual Estimated Reporting and Recordkeeping Cost Burden: $0.

Statutory Authority: The Bonneville Project Act codified in 16 U.S.C. 832a; the Federal Columbia River Transmission System Act of 1974 in 16 U.S.C. 838 et seq.; and the Pacific Northwest Electric Power Planning and Conservation Act in 16 U.S.C. 839 et seq., IRS Code 26 U.S.C. 6109, and Department of Energy Establishment Act 42 U.S.C. 7101 et seq.

Signing Authority

This document of the Department of Energy was signed on June 1, 2023, by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 13, 2023.
Treena V. Garrett,
Federal Register Liaison Officer, U.S. Department of Energy.

[FR Doc. 2023-12942 Filed 6-15-23; 8:45 am]

BILLING CODE 6450-01-P